DEPARTMENT OF LABOR

Employment and Training Administration

[TA-W-38,364]

Johnson and Johnson Medical, Inc., El Paso, TX; Notice of Termination of Investigation

Pursuant of section 221 of the Trade Act of 1974, an investigation was initiated on November 27, 2000 in response to a petition which was filed by a company official on behalf of workers at Johnson and Johnson Medical, Inc. in El Paso, Texas.

The petitioner has requested that the petition be withdrawn. Consequently, further investigation in this case would serve no purpose, and the investigation has been terminated.

Signed in Washington, D. C. this 12th day of December, 2000.
Linda Poole,
Certifying Officer, Division of Trade Adjustment Assistance.

[FR Doc. 00-33071 Filed 12-27-00; 8:45 am]

BILLING CODE 4510-30-M